FEDERAL COMMUNICATIONS COMMISSION

47 CFR Part 73

[DA No. 00-2326; MM Docket No. 99-134; RM-9543 & RM-9572]

Radio Broadcasting Services; Drummond & Victor, MT and McCall ID

AGENCY: Federal Communications Commission.

ACTION: Final rule; dismissal.

SUMMARY: This document denies a Petition for Reconsideration of the Report and Order in MM Docket No. 99-134 which allotted Channel 268C to Drummond, Montana and Channel 250C3 to Victor, Montana. See 65 FR 31101, May 16, 2000. Idaho Broadcasting Consortium (“Idaho”) filed a counterproposal requesting the substitution of Channel 294C1 for Channel 294C2 at McCall, Idaho and reallotment to Victor, Montana. The counterproposal was denied as Idaho was an applicant rather than a permittee or licensee at the time the counterproposal was filed and the counterproposal was not mutually exclusive with the proposal in this proceeding. The Commission's Rules sets forth limited provisions under which the Commission will reconsider a rule making action. The Petition for Reconsideration is denied as Idaho has failed to meet those requirements.

FOR FURTHER INFORMATION CONTACT: Kathleen Scheuerle, Mass Media Bureau, (202) 418-2180.

SUPPLEMENTARY INFORMATION: This is a summary of the Commission's Order in MM Docket No. 99-134, adopted October 4, 2000, and released October 13, 2000. The full text of this Commission decision is available for inspection and copying during normal business hours in the Commission's Reference Center, 445 Twelfth Street, SW, Washington, DC. The complete text of this decision may also be purchased from the Commission's copy contractors, International Transcription Services, Inc., 1231 20th Street, NW., Washington, DC 20036, (202) 857-3800, facsimile (202) 857-3805.

Federal Communications Commission.
John A. Karousos,
Chief, Allocations Branch, Policy and Rules Division, Mass Media Bureau.

[FR Doc. 00-27418 Filed 10-24-00; 8:45 am]

BILLING CODE 6712-01-P